DEPARTMENT OF COMMERCE

Foreign-Trade Zones Board

[B-16-2025]

Foreign-Trade Zone (FTZ) 205; Authorization of Limited Production Activity; Rincon Power, LLC; (Contactors, Relays and Switches); Carpinteria, California

On March 10, 2025, Rincon Power, LLC submitted a notification of proposed production activity to the FTZ Board for its facility within FTZ 205, in Carpinteria, California.

The notification was processed in accordance with the regulations of the FTZ Board (15 CFR part 400), including notice in the Federal Register inviting public comment (90 FR 12523-12524, March 18, 2025). On November 13, 2025, the applicant was notified of the FTZ Board's decision that the proposed activity has been authorized on a limited basis, subject to the FTZ Act and the Board's regulations, including section 400.14, and subject to a three-year limited authorization with the requirement that that Rincon Power, LLC will also need to provide information annually on its sourcing and the U.S. content of its components.

Dated: November 24, 2025.
Elizabeth Whiteman,
Executive Secretary.

[FR Doc. 2025-21275 Filed 11-25-25; 8:45 am]

BILLING CODE 3510-DS-P